DEPARTMENT OF EDUCATION

Office of Special Education and Rehabilitative Services; List of Correspondence

AGENCY: Department of Education.

ACTION: List of Correspondence from April 1, 2007 through June 30, 2007.

SUMMARY: The Secretary is publishing the following list pursuant to section 607(f) of the Individuals with Disabilities Education Act, as amended by the Individuals with Disabilities Education Improvement Act of 2004 (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from April 1, 2007 through June 30, 2007. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part B—Assistance for Education of All Children With Disabilities

Section 611—Authorization; Allotment; Use of Funds; Authorization of Appropriations

Topic Addressed: Reallocation of Funds

○ Letter dated June 14, 2007 to Louisiana Division of Educational Improvement and Assistance Director Dr. Susan A. Aysenne, confirming that the Louisiana Department of Education has the authority to reallocate funds that are not needed by one local educational agency (LEA) to provide a free appropriate public education to children with disabilities to a single LEA or multiple LEAs in the State.

Section 612—State Eligibility

Topic Addressed: Free Appropriate Public Education

○ Letter dated June 14, 2007 to individual (personally identifiable information redacted), clarifying that the same requirements in Part B of IDEA governing personnel qualifications and access to instructional materials that apply to special education and related services provided pursuant to a student's individualized education program (IEP) in a regular school program apply to special education and related services provided pursuant to a student's IEP as compensatory services.

Topic Addressed: Methods of Ensuring Services

○ Office of Special Education (OSEP) Memorandum 07-10 dated May 3, 2007 to State Directors of Special Education, clarifying requirements for obtaining parental consent when a public agency seeks access to a child's public benefits or public insurance to pay for required special education and related services for Medicaid-eligible children and explaining that the LEA does not have to obtain a separate parental consent if parental consent is given directly to another agency, such as a State's Medicaid Agency.

Topic Addressed: Disproportionality

○ OSEP Memorandum 07-09 dated April 24, 2007 to State Directors of Special Education, clarifying the requirements governing overidentification and disproportionality under section 612(a)(24) of IDEA and the requirements governing significant disproportionality under section 618(d) of IDEA.

Section 614—Evaluations, Eligibility Determinations, Individualized Education Programs, and Educational Placements

Topic Addressed: Evaluations and Reevaluations

○ Letter dated May 10, 2007 to U.S. Representative Doris O. Matsui, regarding how determinations are made about a child's eligibility for special education and related services under Part B of IDEA, including whether factors such as family history of substance abuse and other medical information can be considered as part of the eligibility determination.

Section 615—Procedural Safeguards

Topic Addressed: Maintenance Of Current Educational Placement

○ Letter dated April 12, 2007 to North Carolina Exceptional Children Division Director Mary D. Watson, clarifying that the requirements of Part B of IDEA for annual review of a child's IEP remain fully applicable while administrative or judicial proceedings regarding a complaint are pending.

○ Letter dated April 12, 2007 to Community Alliance for Special Education Service Coordinator Paul S. Foreman, regarding the child's status during the pendency of administrative or judicial proceedings when a child who is no longer eligible for services under Part C of IDEA seeks initial services under Part B of IDEA.

Section 674—Technology Development, Demonstration, and Utilization; Media Services; and Instructional Materials

Topic Addressed: National Instructional Materials Access Center

○ Letter dated May 7, 2007 to American Printing House for the Blind, Inc. President Dr. Tuck Tinsley, explaining the Department's interpretation of section 674(e)(5) of the IDEA and clarifying the extent to which that section provides any protection for the National Instructional Materials Access Center from lawsuits contesting its grant activities.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: September 24, 2007.
William W. Knudsen,
Acting Deputy Assistant Secretary for Special Education and Rehabilitative Services.

[FR Doc. E7-19264 Filed 9-27-07; 8:45 am]

BILLING CODE 4000-01-P